DEPARTMENT OF ENERGY

Federal Energy Regulatory Commission

[Project No. 13633-000]

Muskingum Valley Hydro, LLC; Notice of Preliminary Permit Application Accepted for Filing and Soliciting Comments, Motions To Intervene, and Competing Applications

March 15, 2010.

On November 19, 2009, Muskingum Valley Hydro, LLC filed an application, pursuant to section 4(f) of the Federal Power Act, proposing to study the feasibility of the Paint Creek Dam Project No. 13633, to be located at the existing Paint Creek Dam on Paint Creek, in Highland County, Ohio. The Paint Creek Dam is owned and operated by the U.S. Army Corps of Engineers.

The proposed project would consist of: (1) Lining an existing 20-foot-diameter conduit with steel; (2) a new approximately 50-foot-long conduit extension from the outlet works to the powerhouse; (3) two new Francis turbine-generator units with a combined capacity of 3.3 megawatts; (4) a new 50-foot-long, 30-foot-wide, and 30-foot-high powerhouse to be located downstream of the existing outlet works; (5) a new tailrace; (6) a new 14.7-kilovolt, .5-mile transmission line; and (7) appurtenant facilities. The project would have an estimated annual generation of 5,500 megawatt-hours.

Applicant Contact: Randall Smith, 4950 Frazeysburg Road, Zanesville, OH 43701, (740) 891-5424.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13633) in the docket number field to access the document. For assistance, call toll-free 1-866-208-3372.

Kimberly D. Bose,
Secretary.

[FR Doc. 2010-6167 Filed 3-19-10; 8:45 am]

BILLING CODE 6717-01-P